DEPARTMENT OF THE INTERIOR

National Park Service

Notice of Inventory Completion for Native American Human Remains and Associated Funerary Objects in the Control of the Bureau of Indian Affairs and in the Possession of the Oshkosh Public Museum, Oshkosh, WI

AGENCY: National Park Service

ACTION: Notice

Notice is hereby given in accordance with provisions of the Native American Graves Protection and Repatriation Act (NAGPRA), 43 CFR 10.9, of the completion of an inventory of human remains and associated funerary objects in the control of the Bureau of Indian Affairs and in the possession of the Oshkosh Public Museum, Oshkosh, WI.

This notice is published as part of the National Park Service's administrative responsibilities under NAGPRA, 43 CFR 10.2 (c). The determinations within this notice are the sole responsibility of the museum, institution, or Federal agency that has possession of these Native American human remains and associated funerary objects. The National Park Service is not responsible for the determinations within this notice.

A detailed assessment of the human remains and associated funerary objects was made by Oshkosh Public Museum professional staff in consultation with representatives of the Menominee Indian Tribe of Wisconsin.

In 1926, Oshkosh Public Museum staff Arthur Kannenberg excavated the graves of two individuals located on the Menominee Indian Reservation in Keshena, WI. The remains of one individual, believed to have been those of Chief Oshkosh, were re-interred at a new location in Oshkosh, WI shortly thereafter. The remains of the second individual, believed to have been those of one of Chief Oshkosh's wives, were not re-located. Two cervical vertebrae were removed from one of the two graves and donated to the Oshkosh Public Museum by an unknown person, presumably Mr. Kannenberg, at an unknown time after 1926. An unknown person, presumably Mr. Kannenberg, retained remnants of Chief Oshkosh's original casket, including pieces of glass, metal, cloth, wood, beads, three nails, and scraps of beaded cloth. These nine funerary objects were donated to the Oshkosh Public Museum, presumably by Mr. Kannenberg, at an unknown time between 1926-1945. At an unknown time, but presumably during the 1926 exhumation, 11 funerary objects consisting of a wooden spool, 8 buttons, shears, and 1 nail were collected from the grave of a wife of Chief Oshkosh. They were donated to the Oshkosh Public Museum by an unknown person, but presumed to be Mr. Kannenberg, at an unknown time between 1926-1945.

A contemporaneous account of the exhumation notes the identification of the remains as Chief Oshkosh based upon surface markers of “three rocks marking the graves of the old chief and two of his wives. Several graves in this vicinity were opened, those of the wives being identified by earrings, brooches and jewelry in the one, and shears, needles, buttons and a spool in the other.”

Based on the above-mentioned information, officials of the Oshkosh Public Museum have determined that, pursuant to 43 CFR 10.2 (d)(1), the human remains listed above represent the physical remains of one individual of Native American ancestry. Officials of the Oshkosh Public Museum also have determined that, pursuant to 43 CFR 10.2 (d)(2), the 20 objects listed above are reasonably believed to have been placed with or near individual human remains at the time of death or later as part of the death rite or ceremony. While the likely identity of the individual reported in this notice has been determined, officials of the Oshkosh Public Museum have not been able to trace a direct and unbroken line of descent to a particular individual, pursuant to 43 CFR 10.2 (b)(1). Lastly, officials of the Oshkosh Public Museum have determined that, pursuant to 43 CFR 10.2 (e), there is a relationship of shared group identity that can be reasonably traced between these Native American human remains and associated funerary objects and the Menominee Indian Tribe of Wisconsin.

This notice has been sent to officials of the Menominee Indian Tribe of Wisconsin. Any lineal descendent and representatives of any other Indian tribe that believes itself to be culturally affiliated with these human remains and associated funerary objects should contact Joan Lloyd, Registrar, Oshkosh Public Museum, 1331 Algoma Boulevard, Oshkosh, WI 54901, telephone (920) 424-4747, before November 24, 2000. Repatriation of the human remains and associated funerary objects to the Menominee Indian Tribe of Wisconsin may begin after that date if no additional claimants come forward.

Dated: October 6, 2000.
John Robbins,
Assistant Director, Cultural Resources Stewardship and Partnerships.

[FR Doc. 00-27392 Filed 10-24-00; 8:45 am]

BILLING CODE 4310-70-F